DEPARTMENT OF HOMELAND SECURITY

Transportation Security Administration

Intent to Request Extension From OMB of One Current Public Collection of Information: TSA Canine Training Center Adoption Application

AGENCY: Transportation Security Administration, DHS.

ACTION: 60-day notice.

SUMMARY: The Transportation Security Administration (TSA) invites public comment on one currently approved Information Collection Request (ICR), Office of Management and Budget (OMB) control number 1652-0067, abstracted below that we will submit to OMB for an extension in compliance with the Paperwork Reduction Act (PRA). The ICR describes the nature of the information collection and its expected burden. The collection involves gathering information from individuals who wish to adopt a TSA canine through the TSA Canine Training Center (CTC) Adoption Program.

DATES: Send your comments by February 10, 2020.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0067; TSA Canine Training Center Adoption Application. The TSA Canine Program is a Congressionally-mandated program that operates as a partnership among TSA; aviation, mass transit, and maritime sectors; and State and local law enforcement. TSA operates the CTC Adoption Program in accordance with 41 CFR 102-36.35(d) (donation of surplus property) and 102-36.365 (donation of canines used for performance of law enforcement duties).¹

¹ See 41 CFR 102-36.35(d): “If a written determination is made that the property has no commercial value or the estimated cost of its continued care and handling would exceed the estimated proceeds from its sale, you may dispose of the property by abandonment or destruction, or donate it to public bodies.” See also 41 CFR 102-36.365: “. . . under 40 U.S.C. 555, when the canine is no longer needed for law enforcement duties, you may donate the canine to an individual who has experience handling canines in the performance of those official duties.”

TSA developed the CTC to train and deploy explosive detection canine teams for TSA and for local, State, and Federal agencies in support of daily activities that protect the transportation domain. Canine teams consist of TSA employees, or local/State law enforcement officers, paired with explosives detection canines. These canine teams are trained on a variety of explosives and screening capabilities based on intelligence data and emerging threats. Canine teams are deployed after successfully undergoing a 10- or 12-week training program and seek certification after additional training within their assigned operational environment.

Of the canines purchased by TSA for purposes of the TSA Canine Program, approximately 83 percent graduate from the training program. These canines are continually assessed to ensure they demonstrate operational proficiency in their environment. The corresponding attrition rate is between 15-18 percent. Attrition arises from canines who do not graduate from the training program and those who successfully graduate, but are later assessed as not performing at operational proficiency. CTC typically repurposes 42 percent of the canines eliminated from the program to other Federal, State, and local law enforcement agencies.

Canines that attrite out of the program and not repurposed for other government purposes may be placed for adoption. TSA created the CTC Adoption Program to find suitable individuals or families to adopt the canines and to provide good homes. Individuals seeking to adopt a TSA canine must complete the CTC Adoption Application.

The application is an online application that collects personal information from the public to determine their suitability to adopt a TSA canine. TSA uses the information collected to evaluate the individual seeking to adopt a TSA canine against program guidelines developed by CTC. The collection includes information about the individual's household, personal references, and current pet and veterinarian information. In addition, the individual must agree to transport the canine home from CTC in San Antonio, Texas, and to provide any necessary medical care, including, but not limited to, heartworm and flea preventives, and annual vaccinations, for the duration of the canine's life. TSA also collects an attestation that all information submitted is true.

TSA estimates that annually 300 individuals will complete the adoption application and that it will take approximately 10 minutes or 0.1666 hours. This will give an estimated annual time burden to the public of 50 hours.

Dated: December 5, 2019.
Christina A. Walsh,
TSA Paperwork Reduction Act Officer, Information Technology.

[FR Doc. 2019-26634 Filed 12-10-19; 8:45 am]

BILLING CODE 9110-05-P